GENERAL SERVICES ADMINISTRATION

[Notice-MG-2016-01; Docket No. 2016-0002; Sequence No. 2]

Office of Federal High-Performance Green Buildings; Green Building Advisory Committee; Notification of Upcoming Public Advisory Committee Meeting and Conference Calls

AGENCY: Office of Government-wide Policy, General Services Administration (GSA).

ACTION: Meeting Notice.

SUMMARY: Notice of this meeting and these conference calls is being provided according to the requirements of the Federal Advisory Committee Act, 5 U.S.C. App. 10(a)(2). This notice provides the agenda and schedule for the April 28, 2016 meeting of the Green Building Advisory Committee (the Committee) and schedule for a series of conference calls, supplemented by Web meetings, for a new task group of the Committee. The meeting is open to the public and the site is accessible to individuals with disabilities. The conference calls are open for the public to listen in. Interested individuals must register to attend as instructed below under SUPPLEMENTARY INFORMATION.

DATES: Meeting date: The meeting will be held on Thursday, April 28, 2016, starting at 9:00 a.m. Eastern Daylight Time (EDT), and ending no later than 3:30 p.m.

Green Leasing task group conference call dates: The Green Leasing task group will hold recurring, weekly conference calls on Tuesdays beginning March 1, 2016 through April 26, 2016 from 2:00 p.m. to 3:00 p.m., (EDT).

FOR FURTHER INFORMATION CONTACT: Mr. Ken Sandler, Designated Federal Officer, Office of Federal High-Performance Green Buildings, Office of Government-wide Policy, General Services Administration, 1800 F Street NW., Washington, DC 20405, telephone 202-219-1121 (Note: This is not a toll-free number). Additional information about the Committee, including meeting materials and updates on the task groups and their schedules, will be available on-line at http://www.gsa.gov/gbac.

SUPPLEMENTARY INFORMATION: Procedures for Attendance and Public Comment: Contact Mr. Ken Sandler at ken.sandler@gsa.gov, to register to attend the meeting and/or listen in to any or all of these conference calls. To attend the meeting and/or conference calls, submit your full name, organization, email address, and phone number. Requests to attend the April 28, 2016 meeting must be received by 5:00 p.m., (EDT) on Wednesday, April 20, 2016. Requests to listen in to the calls must be received by 5:00 p.m., (EDT) on Friday, February 26, 2016 (GSA will be unable to provide technical assistance to any listener experiencing technical difficulties. Testing access to the Web meeting site in advance of calls is recommended.)

Contact Ken Sandler at ken.sandler@gsa.gov to register to comment during the April 28, 2016 meeting public comment period. Registered speakers/organizations will be allowed a maximum of 5 minutes each, and will need to provide written copies of their presentations. Requests to comment at the meeting must be received by 5:00 p.m., (EDT) on Wednesday, April 20, 2016. Written comments also may be provided to Mr. Sandler at ken.sandler@gsa.gov by the same deadline.

Background: The Administrator of the General Services Administration established the Committee on June 20, 2011 (Federal Register/Vol. 76, No. 118), pursuant to Section 494 of the Energy Independence and Security Act of 2007 (EISA, 42 U.S.C. 17123). Under this authority, the Committee advises GSA on the rapid transformation of the Federal building portfolio to sustainable technologies and practices. The Committee reviews strategic plans, products, and activities of the Office of Federal High-Performance Green Buildings, and provides advice regarding how the Office can accomplish its mission most effectively.

The Green Leasing task group will pursue the Committee's motion to “provide recommendations to improve federal government leasing language and requirements regarding . . . sustainability goals.”

The conference calls will allow the task group to coordinate the development of consensus recommendations to the full Committee, which will in turn decide whether to proceed with formal advice to GSA based upon these recommendations. The task group will provide recommendations in support of GSA's development of model commercial leasing provisions, a requirement of the Energy Efficiency Improvement Act of 2015 (42 U.S.C. 17062).

April 28, 2016 Meeting Agenda:

• Welcome, Introductions, Updates & Plans for Today

• Portfolio Prioritization: Task Group Report & Discussion

• Green Leasing: Task Group Report & Discussion

• Working Lunch (with Presentation)

• Energy Use Index: Task Group Report & Discussion

• Discussion of the Committee's Overall Direction

• Topics Proposed by Committee Members

• Public Comment Period

• Closing comments

• Adjourn

Detailed agendas, background information, and updates for the meeting and conference calls will be posted on GSA's Web site at http://www.gsa.gov/gbac.

Meeting Access: The Committee will convene its April 28, 2016 meeting at the General Services Administration building, Room 6159, 1800 F Street NW., Washington, DC 20405, and the site is accessible to individuals with disabilities.

Kevin Kampschroer,
Federal Director, Office of Federal High-Performance Green Buildings, General Services Administration.

[FR Doc. 2016-02518 Filed 2-8-16; 8:45 am]

BILLING CODE 6820-14-P